DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 76 FR 15984-15985, dated March 22, 2011) is amended to reflect the reorganization of the Laboratory Science, Policy, and Practice Program Office, Office of Surveillance, Epidemiology and Laboratory Services, Centers for Disease Control and Prevention.

Section C-B, Organization and Functions, is hereby amended as follows:

Delete item (1) of the functional statement for Division of Laboratory Policy and Practice (CPGB), Laboratory Science, Policy, and Practice Program Office (CPG), and insert the following:

(1) Ensures coordination and liaison with the Office of Safety, Health and Environment (OSHE) on laboratory biosafety issues as part of the larger Quality Management Systems for laboratories.

Delete item (1) of the functional statement for Technology Management Branch (CPGBB) and insert the following:

(1) Coordinates with OSHE and other federal partners on cross-cutting safety issues.

Delete items (2), (3) and (4) of the functional statement for Technology Management Branch (CPGBB) and renumber the remaining items accordingly.

Dated: April 15, 2011.
Carlton Duncan,
Acting Chief Operating Officer, Centers for Disease Control and Prevention.

[FR Doc. 2011-10402 Filed 4-29-11; 8:45 am]

BILLING CODE 4160-18-M